DEPARTMENT OF THE INTERIOR

Bureau of Land Management

[LLNVS00560.L58530000 ES0000.241A; N-90846; 14-08807; MO#4500059940; TAS: 14X5232]

Notice of Realty Action: Classification for Lease and/or Subsequent Conveyance for Recreation and Public Purposes of Public Land for a Park and Ride Facility (N-90846) in Clark County, NV

AGENCY: Bureau of Land Management, Interior.

ACTION: Notice of realty action.

SUMMARY: The Bureau of Land Management (BLM) has examined and found suitable for classification for lease and/or subsequent conveyance under the provisions of the Recreation and Public Purposes (R&PP) Act, as amended, approximately 15 acres of public land in Clark County, Nevada. The Regional Transportation Commission (RTC) of Southern Nevada proposes to use the land for a Park and Ride facility.

DATES: Interested parties may submit written comments regarding the proposed classification of the land for lease and/or subsequent conveyance of the land, and the environmental assessment, until March 7, 2014.

ADDRESSES: Send written comments to the BLM Las Vegas Field Manager, 4701 N. Torrey Pines Drive, Las Vegas, Nevada 89130, or email: cwilliams@blm.gov.

FOR FURTHER INFORMATION CONTACT: Catrina Williams, 702-515-5176 or cwilliams@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The RTC of Southern Nevada has filed an application to develop the following described land as a Park and Ride with related facilities in the southwestern part of the Las Vegas Valley, between Las Vegas Boulevard South and I-15, north of St. Rose Parkway in Clark County, Nevada. The parcel of land is legally described as:

Mount Diablo Meridian, Nevada

T. 23 S., R. 61 E.,

Sec. 5, SW1/4SE1/4SE1/4 and N1/2SE1/4SE1/4SE1/4.

The area described contains 15.0 acres, more or less, in Clark County.

The proposed Park and Ride facility would include parking, approximately 6 bus bays, a 1,800-square foot transit terminal building, ticket vending machines, storage, indoor and outdoor waiting areas, and public restrooms. Additional detailed information pertaining to this application, plan of development, and site plan is in case file N-90846 which is located at the BLM Las Vegas Field Office at the address in the ADDRESSES section. The BLM's environmental assessment 2012-0074 EA for this proposed action can be viewed at the BLM Las Vegas Field Office and on the Web at http://www.blm.gov/nv/st/en/fo/lvfo/blm_information/nepa.html. The land is not required for any Federal purpose. The lease and/or subsequent conveyance of the public land is consistent with the BLM Las Vegas Resource Management Plan dated October 5, 1998, and would be in the public interest. The RTC of Southern Nevada is a political subdivision of the State of Nevada and is therefore a qualified applicant under the R&PP Act. The RTC of Southern Nevada has not applied for more than the 640-acre limitation for public purpose uses in a year consistent with the regulations at 43 CFR 2741.7(a)(2). They have submitted a statement addressing their compliance with the regulations at 43 CFR 2741.4(b).

The lease and/or subsequent conveyance of the public land will be subject to valid existing rights. Subject to limitations prescribed by law and regulation, prior to patent issuance, a holder of any right-of-way within the lease area may be given the opportunity to amend the right-of-way for conversion to a new term, including perpetuity, if applicable.

The lease and/or subsequent conveyance, if issued, would be subject to the provisions of the R&PP Act and applicable regulations of the Secretary of the Interior, and will contain the following terms, conditions, and reservations to the United States:

1. A right-of-way thereon for ditches or canals constructed by the authority of the United States, Act of August 30, 1890 (43 U.S.C. 945);

2. All minerals shall be reserved to the United States, together with the right to prospect for, mine, and remove such deposits from the same under applicable law and such regulations as the Secretary of the Interior may prescribe;

3. All valid existing rights;

4. Right-of-way N-48572 for fiber optic facilities granted to AT&T GRE Lease Administration, its successors and assigns, pursuant to the Act of October 21, 1976 (U.S.C. 1761);

5. Right-of-way N-74998 for a water pipeline granted to Las Vegas Valley Water District, pursuant to the Act of October 21, 1976 (U.S.C. 1761);

6. Right-of-way N-82079 for a sewer line to Clark County Water Reclamation District, pursuant to the Act of October 21, 1976 (U.S.C. 1761);

7. Right-of-way N-82821for a drainage facility to Clark County, pursuant to the Act of October 21, 1976 (U.S.C. 1761);

8. Right-of-way N-82822 for a road to Clark County, pursuant to the Act of October 21, 1976 (U.S.C. 1761);

9. Right-of-way N-85420 for a distribution power line to Nevada Power Company, pursuant to the Act of October 21, 1976 (U.S.C. 1761); and

10. An appropriate indemnification clause protecting the United States from claims arising out of the lessee's/patentee's use, occupancy, or occupations on the leased/patented lands.

Upon publication of this notice in the Federal Register, the land described is segregated from all other forms of appropriation under the public land laws, including the general mining laws, except for lease/conveyance under the R&PP Act, leasing under the mineral leasing laws, and disposals under the mineral material disposal laws.

Interested parties may submit written comments regarding the suitability of the land for a Park and Ride facility. Comments on the classification are restricted to whether the land is physically suited for the proposal, whether the use will maximize the future use or uses of the land, whether the use is consistent with local planning and zoning, or if the use is consistent with State and Federal programs.

Interested parties may also submit written comments regarding the specific use proposed in the application and plan of development, and whether the BLM followed proper administrative procedures in rendering a decision to lease and/or convey under the R&PP Act.

Before including your address, phone number, email address, or other personal identifying information in your comment, you should be aware that your entire comment—including your personal identifying information—may be made publicly available at any time. While you can ask us in your comment to withhold your personal identifying information from public review, we cannot guarantee that we will be able to do so. Any adverse comments will be reviewed by the BLM Nevada State Director, who may sustain, vacate, or modify this realty action. In the absence of any adverse comments, the decision will become effective on March 24, 2014. The lands will not be available for lease/conveyance until after decision becomes effective.

Authority: 43 CFR part 2741.

Catrina Williams,
Acting Assistant Field Manager, Las Vegas Field Office.

[FR Doc. 2014-00883 Filed 1-17-14; 8:45 am]

BILLING CODE 4310-HC-P